DEPARTMENT OF THE INTERIOR

Bureau of Land Management

[NMNM-103686]

Public Land Order No. 7935; Extension of Public Land Order No. 7593 for Davenport Electronic Site; New Mexico

AGENCY: Bureau of Land Management, Interior.

ACTION: Public Land Order.

SUMMARY: This order extends the duration of the withdrawal created by Public Land Order (PLO) No. 7593 for an additional 20-year period. On January 28, 2004, PLO No. 7593 withdrew 80 acres of National Forest System lands in Catron County, New Mexico, from location and entry under the United States mining laws, subject to valid existing rights, for a 20-year period. The purpose of this withdrawal is to protect the Davenport Electronic Site managed by the United States Forest Service (USFS), which supports emergency service communication infrastructure.

DATES: This PLO takes effect on January 28, 2024.

FOR FURTHER INFORMATION CONTACT: Carol Harris, BLM Socorro Field Office Realty Specialist by phone at 575-838-1298 or email at caharris@blm.gov or Richard Wilhelm, USFS Lands Special Uses Program Manager, by phone at (505) 346-3842 or by email at richard.wilhelm@usda.gov.

Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose of the withdrawal extended by this PLO is to protect the Davenport Electronic Site, as originally authorized under PLO No. 7593 (69 FR 4172), which is incorporated herein by reference. PLO No. 7593 withdrew 80 acres of National Forest System lands from location and entry under the United States mining laws. The withdrawal extension is necessary to continue protection of these lands that are utilized to support emergency service communication for an additional 20-year term.

Order

By virtue of the authority vested in the Secretary of the Interior by Section 204 of the Federal Land Policy and Management Act of 1976, 43 U.S.C. 1714, it is ordered as follows:

1. Subject to valid existing rights, PLO No. 7593 (69 FR 4172), which withdrew 80 acres of National Forest System lands from location and entry under the United States mining laws to protect the USFS-managed Davenport Electronic Site, is hereby extended for an additional 20-year period and the legal description reads as follows:

New Mexico Principal Meridian, New Mexico

T. 1 N., R. 10 W.,

Sec. 29, S½NW¼.

The areas described aggregate 80 acres.

2. This withdrawal will expire 20 years from the effective date of this order unless, as a result of a review conducted prior to the expiration date pursuant to Section 204(f) of the Federal Land Policy and Management Act, 43 U.S.C. 1714(f), the Secretary determines that the withdrawal shall be further extended.

(Authority: 43 U.S.C. 1714(f))

Robert T. Anderson,
Solicitor.

[FR Doc. 2024-01551 Filed 1-25-24; 8:45 am]

BILLING CODE 3411-15-P